ENVIRONMENTAL PROTECTION AGENCY

[FRL-6713-8]

Casmalia Disposal Site; Notice of Extension of the Public Comment Period for Proposed CERCLA Administrative De Minimis Settlement

AGENCY: Environmental Protection Agency.

ACTION: Notice; extension of public comment period.

SUMMARY: In accordance with section 122(i) of the Comprehensive Environmental Response, Compensation, and Liability Act, as amended (“CERCLA”), 42 U.S.C. 9622(i), and section 7003(d) of the Resource Conservation and Recovery Act, as amended (“RCRA”) 42 U.S.C. 6973(d), the Environmental Protection Agency (“EPA”) provided notice in the March 15, 2000, Federal Register, 65 FR 13967-13969, of a proposed administrative de minimis settlement concerning the Casmalia Disposal Site in Santa Barbara County, California (“the Casmalia Disposal Site”). This notice extends the public comment period through June 26, 2000. Section 122(g) of CERCLA, 42 U.S.C. 9622(g), provides EPA with the authority to enter into administrative de minimis settlements. This settlement is intended to resolve the liabilities of 433 settling parties for the Casmalia Disposal Site under sections 106 and 107 of CERCLA, 42 U.S.C. 9606, 9607, and section 7003 of RCRA, 42 U.S.C. 6973. For most of the settling parties, the settlement will also resolve their Casmalia Disposal Site-related liability for the response costs incurred or to be incurred by the federal Natural Resources Trustees' (the United States Fish and Wildlife Service, the National Oceanic and Atmospheric Administration, and the United States Department of the Air Force), and potential natural resource damages. The settling parties will pay a total of $27.6 million toward Casmalia Disposal Site response costs.

Through June 26, 2000, EPA will receive written comments relating to the settlement. In addition, in accordance with section 7003(d) of RCRA, 42 U.S.C. 6973(d), EPA will hold a public hearing to receive comments on the proposed settlement, on June 26, 2000, from 7-9 p.m., in the Board of Supervisors' Hearing Room, at the County Administration Building, 511 E. Lakeside Parkway, Santa Maria, California. EPA will consider all comments it receives during this comment period, and may modify or withdraw its consent to the settlement if any comments disclose facts or considerations indicating that the settlement is inappropriate, improper, or inadequate. EPA's written responses to all comments will be made available at the EPA Region IX Superfund Records Center (415-536-2000), 95 Hawthorne Street, Suite 403 S, San Francisco, CA 94105-3901 and at the Santa Maria Library (805-925-0994), 420 South Broadway, Santa Maria, CA 93454.

DATES: Original, signed comments must be received by EPA on or before June 26, 2000.

ADDRESSES: Comments should be addressed to the Regional Hearing Clerk, U.S. EPA Region IX (ORC-1), 75 Hawthorne Street, San Francisco, CA 94105-3901, and should refer to: Casmalia Disposal Site, Santa Barbara County, CA, U.S. EPA Docket No. 99-02(a). The proposed settlement and additional background information relating to the settlement are available for inspection at the EPA Region IX Superfund Records Center (415-536-2000), 95 Hawthorne Street, Suite 403 S, San Francisco, CA 94105-3901 and at the Santa Maria Library (805-925-0994), 420 South Broadway, Santa Maria, CA 93454. A copy of the proposed Administrative Order on Consent may be obtained from the Regional Hearing Clerk at the address provided above.

FOR FURTHER INFORMATION CONTACT: Karen Goldberg, Assistant Regional Counsel, U.S. EPA Region IX (ORC-3), 75 Hawthorne Street, San Francisco, CA 94105-3901; E-Mail: goldberg.karen@epa.gov; Tel: (415) 744-1382.

Keith Takata,
Director, Superfund Division, Region IX.

[FR Doc. 00-14770 Filed 6-9-00; 8:45 am]

BILLING CODE 6560-50-U